DEPARTMENT OF COMMERCE

International Trade Administration

[C-357-813]

Honey from Argentina: Final Results of Countervailing Duty Administrative Review

AGENCY: Import Administration, International Trade Administration, Department of Commerce.

SUMMARY: On December 15, 2003, the Department of Commerce (the Department) published in the Federal Register its preliminary results of administrative review of the countervailing duty order on honey from Argentina for the period January 1, 2001 through December 31, 2002. We are now issuing the final results.

Based on our analysis of the comments received, we have made no changes to the net countervailable subsidy rates for 2001 and 2002. Therefore, the final results do not differ from the preliminary results. The final net countervailable subsidy rates are listed below in the section entitled “Final Results of Administrative Review.”

EFFECTIVE DATE: May 24, 2004.

FOR FURTHER INFORMATION CONTACT: Thomas Gilgunn or Addilyn Chams-Eddine, Office of AD/CVD Enforcement VII, Import Administration, U.S. Department of Commerce, Room 4012, 14th Street and Constitution Avenue, N.W., Washington, D.C. 20230; telephone (202) 482-4236 or (202) 482-0648, respectively.

SUPPLEMENTARY INFORMATION:

Background

In response to requests for an administrative review of the countervailing duty (CVD) order on honey from Argentina from the Government of Argentina (GOA) and the American Honey Producers Association and Sioux Honey Association (petitioners), the Department initiated an administrative review for the period January 1, 2001 through December 31, 2001. See Initiation of Antidumping and Countervailing Duty Administrative Reviews and Request for Revocation in Part, 68 FR 3009 (January 22, 2003) (Initiation Notice).

In its request for review, the GOA requested “that the period of review be extended to include calendar year 2002.” Based on our analysis of the GOA's request and the comments received from the petitioners and the GOA on this issue, the Department expanded the period of review to include 2002. Accordingly, this administrative review covers calendar years January 1, 2001 through December 31, 2001 and January 1, 2002 through December 31, 2002.¹ (See memorandum from Thomas Gilgunn to Joseph A Spetrini “Honey from Argentina: Expansion of the Period of Review in the First Administrative Review of the Countervailing Duty Order,” dated February 21, 2003, on file in the Central Records Unit (CRU) located in room B-099 of the Main Commerce Building.)

¹ For the purposes of these final results, we have analyzed data for the period January 1, 2001 through December 31, 2001 to determine the countervailable subsidy rate for exports of subject merchandise made during the periods in 2001 when liquidation of entries was suspended. In addition, we have analyzed data for the period January 1, 2002 through December 31, 2002 to determine the countervailable subsidy rate for exports during that period and to establish the cash deposit rate for subsequent exports of subject merchandise.

On December 15, 2003, the Department published in the Federal Register the preliminary results of the administrative review of the countervailing duty order on honey from Argentina. See Honey from Argentina: Preliminary Results of Countervailing Duty Administrative Review, 68 FR 69660 (December 15, 2003) (Preliminary Results). On January 14, 2004, the Government of Argentina (GOA) and petitioners submitted case briefs regarding the Department's Preliminary Results. Both the GOA and petitioners filed rebuttal briefs on January 20, 2004. On March 31, 2004, the Department extended the deadline for completion of the final results of the administrative review of the countervailing duty order on honey from Argentina to May 17, 2004. See Notice of Extension of Time Limit for the Final Results of Countervailing Duty Administrative Review: Honey from Argentina, 69 FR 16895 (March 31, 2004).

Scope of the Countervailing Duty Order

The merchandise covered by this order is artificial honey containing more than 50 percent natural honeys by weight, preparations of natural honey containing more than 50 percent natural honeys by weight, and flavored honey. The subject merchandise includes all grades and colors of honey whether in liquid, creamed, combs, cut comb, or chunk form, and whether packaged for retail or in bulk form.

The merchandise subject to this order is currently classifiable under subheadings 0409.00.00, 1702.90, and 2106.90.99 of the Harmonized Tariff Schedule of the United States (HTSUS). Although the HTSUS subheadings are provided for convenience and Bureau of Customs and Border Protection (CBP) purposes, the Department's written description of the merchandise covered by this order is dispositive.

Analysis of Comments Received

All issues raised by the interested parties in their case and rebuttal briefs are addressed in the “Issues and Decision Memorandum” (Decision Memorandum) dated May 17, 2004, which is hereby adopted by this notice. A list of the issues which parties have raised is attached to this notice as Appendix I. Parties can find a complete discussion of all issues raised in this review and the corresponding recommendations in this public memorandum which is on file in room B-099 of the Main Commerce Building. In addition, a complete version of the Decision Memorandum can be accessed directly on the World Wide Web at http://www.ia.ita.doc.gov under the heading “Federal Register Notices.” The paper copy and the electronic version of the Decision Memorandum are identical in content.

Changes Since the Preliminary Results

Based on our analysis of the comments received, we have made no changes to the net countervailable subsidy rates for 2001 and 2002, or to the rate of cash deposit of estimated countervailing duties which will apply to entries of honey from Argentina made on or after the date of publication of these final results of review. For a complete discussion of the Department's determination with respect to the programs under review as well as of the methodologies applied in analyzing these programs please see the memorandum “Honey From Argentina: Issues and Decision Memorandum in the Final Results of Countervailing Duty Administrative Review,” dated May 17, 2004 (Decision Memo).

Final Results of Administrative Review

In accordance with section 777A(e)(2)(B) of the Act, we have calculated the net countervailable subsidy rates on an aggregate or industry-wide basis for exports of subject merchandise in this administrative review. We have calculated separate rates for 2001 and for 2002. Accordingly, we determine the total net countervailable subsidy rate to be 5.77 percent ad valorem for 2001 and 0.57 percent ad valorem for 2002.

The Department will instruct U.S. Customs and Border Protection (CBP) to liquidate shipments of honey from Argentina entered, or withdrawn from warehouse, for consumption on or after March 13, 2001 and on or before July 10, 2001, and on or after December 10, 2001 and on or before December 31, 2001 at 5.77 percent ad valorem. Shipments of honey from Argentina entered, or withdrawn from warehouse, for consumption on or after January 1, 2002 and on or before December 31, 2002 will be liquidated at 0.57 percent ad valorem. The Department will also instruct CBP to collect cash deposits of estimated countervailing duties at 0.57 percent ad valorem for all shipments of honey from Argentina entered, or withdrawn from warehouse, for consumption on or after the date of publication of these final results of administrative review. The Department will issue appropriate assessment instructions directly to the CBP within 15 days of publication of these final results of review.

Return or Destruction of Propriety Information

This notice serves as a reminder to parties subject to administrative protective order (APO) of their responsibility concerning the disposition of proprietary information disclosed under APO in accordance with 19 CFR § 351.305. Timely written notification of return/destruction of APO materials or conversion to judicial protective order is hereby requested. Failure to comply with the regulations and the terms of an APO is sanctionable violation.

This administrative review and notice are issued and published in accordance with section 751(a)(1) and 777(i)(1) of the Act (19 U.S.C. 1675(a)(1) and 19 U.S.C. 1677(f)(1).

Dated: May 17, 2004.
James J. Jochum,
Assistant Secretary for Import Administration.

Appendix 1

Issues Discussed in Decision Memorandum

Methodology and Background Information

I. Subsidies Valuation Information

A. Aggregation

B. Allocation Period

C. Benchmark Interest Rate and Discount Rate

II. Analysis of Programs

A. Programs Determined to be Countervailable

1. Federal Programs

a. Argentine Internal Tax Reimbursement/Rebate Program (Reintegro)

b. Factor de Convergencia (Convergence Factor)

c. Regional Productive Revitalization: National Program for the Promotion and Development of Local Productive Initiative (Regional Productive Revitalization Program)

d. BNA Financing for the Acquisition of Goods of Argentine Origin

2. Provincial Government Programs

Province of San Luis Honey Development Program

b. Province of Chaco Line of Credit Earmarked for the Honey Sector

c. Buenos Aires Honey Program

i. Line of Credit for Working Capital

ii. Line of Credit for the Acquisition of Capital Goods

B. Program Determined To Be Not Countervailable

Provincial Program

Convenio Programa MIPyMEs Bonarenses 2000 and the Convenio Programa MIPyMEs Agropecarias Bonarense 2000

C. Programs Determined Not To Be Used

1. Federal Programs

a. BICE Norm 011: Financing of Production of Goods Destined for Export

b. BICE Norm 007: BICE Norm 007: Line of Credit Offered to Finance Industrial Investment Projects to Restructure and Modernize the Argentine Industry

c. BNA Line of Credit to the Agricultural Producers of the Patagonia

d. BNA Pre - Financing of Exports Regime for the Agricultural Sector

e. Production Pole Program for Honey Producers

f. Enterprise Restructuring Program

g. SGRs - Government Backed Loans Guarantees

h. Fundacion Export *AR

i. PROAPI

2. Provincial Programs

a. Province of Entre Rios Honey Program

b. Province of Chubut: Province of Chabut Law No. 4430/98

c. Province of Santiago del Estero: Creditos de Confinanzas (Trust Credits)

III. Total Ad Valorem Rates

IV. Analysis of the Issues

Issue 1: Use of Facts Available

Issue 2: Use of Adverse Fact Available

Issue 3: Basis of Adverse Fact Available

Issue 4: Determination of Assessment and Cash Deposit Rates

[FR Doc. 04-11675 Filed 5-21-04; 8:45 am]

BILLING CODE 3510-DS-S